DEPARTMENT OF TRANSPORTATION

Federal Aviation Administration

14 CFR Part 39

[Docket No. FAA-2019-0862; Product Identifier 2019-NM-121-AD]

RIN 2120-AA64

Airworthiness Directives; The Boeing Company Airplanes

AGENCY: Federal Aviation Administration (FAA), DOT.

ACTION: Notice of proposed rulemaking (NPRM).

SUMMARY: The FAA proposes to adopt a new airworthiness directive (AD) for certain The Boeing Company Model 767-200, -300, -300F, and -400ER series airplanes. This proposed AD was prompted by a determination that new or more restrictive airworthiness limitations are necessary. This proposed AD would require revising the existing maintenance or inspection program, as applicable, to incorporate new or more restrictive airworthiness limitations. The FAA is proposing this AD to address the unsafe condition on these products.

DATES: The FAA must receive comments on this proposed AD by December 23, 2019.

ADDRESSES: You may send comments, using the procedures found in 14 CFR 11.43 and 11.45, by any of the following methods:

• Federal eRulemaking Portal: Go to https://www.regulations.gov. Follow the instructions for submitting comments.

• Fax: 202-493-2251.

• Mail: U.S. Department of Transportation, Docket Operations, M-30, West Building Ground Floor, Room W12-140, 1200 New Jersey Avenue SE, Washington, DC 20590.

• Hand Delivery: Deliver to Mail address above between 9 a.m. and 5 p.m., Monday through Friday, except Federal holidays.

For service information identified in this NPRM, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195.

Examining the AD Docket

You may examine the AD docket on the internet at https://www.regulations.gov by searching for and locating Docket No. FAA-2019-0862; or in person at Docket Operations between 9 a.m. and 5 p.m., Monday through Friday, except Federal holidays. The AD docket contains this NPRM, the regulatory evaluation, any comments received, and other information. The street address for Docket Operations is listed above. Comments will be available in the AD docket shortly after receipt.

FOR FURTHER INFORMATION CONTACT: Wayne Lockett, Aerospace Engineer, Airframe Section, FAA, Seattle ACO Branch, 2200 South 216th St., Des Moines, WA 98198; phone and fax: 206-231-3524; email: wayne.lockett@faa.gov.

SUPPLEMENTARY INFORMATION:

Comments Invited

The FAA invites you to send any written relevant data, views, or arguments about this proposal. Send your comments to an address listed under the ADDRESSES section. Include “Docket No. FAA-2019-0862; Product Identifier 2019-NM-121-AD” at the beginning of your comments. The FAA specifically invites comments on the overall regulatory, economic, environmental, and energy aspects of this NPRM. The FAA will consider all comments received by the closing date and may amend this NPRM because of those comments.

The FAA will post all comments, without change, to https://www.regulations.gov, including any personal information you provide. The FAA will also post a report summarizing each substantive verbal contact the agency receives about this NPRM.

Discussion

The FAA issued AD 2014-14-04, Amendment 39-17899 (79 FR 44672, August 1, 2014) (“AD 2014-14-04”), for certain The Boeing Company Model 767-200, -300, -300F, and -400ER series airplanes. AD 2014-14-04 requires revising the maintenance program to incorporate airworthiness limitations. AD 2014-14-04 resulted from a re-evaluation of certain doors and flaps based on their fatigue-critical nature. The FAA issued AD 2014-14-04 to address fatigue cracking of the principal structural elements, which could adversely affect the structural integrity of the airplane.

AD 2014-14-04 referred to Subsection B, Airworthiness Limitations—Structural Inspections, of Section 9, Airworthiness Limitations (AWLs) and Certification Maintenance Requirements (CMRs), D622T001-9, Revision July 2011, and Revision February 2014, of the Boeing 767 Maintenance Planning Data Document as the appropriate sources of service information for revising the maintenance program to incorporate airworthiness limitations.

Since the FAA issued AD 2014-14-04, the FAA has received a report indicating that certain inspections were confusing or difficult to accomplish. During a subsequent review of the airworthiness limitations required by AD 2014-14-04, the airworthiness limitations for multiple structurally significant items (SSIs) were found that contain significant errors or omissions, resulting in inadequate damage tolerance rating (DTR) values. The FAA determined the existing maintenance program does not provide adequate probability of detection for foreseeable fatigue cracking of SSIs because there have been multiple improvements to Boeing's damage tolerance methodology since the last significant update of the Boeing Model 767 AWL and DTR documents.

Inadequate AWL and DTR values in the maintenance or inspection program that reduce the probability of detection for foreseeable fatigue cracking of SSIs, if not addressed, could result in the loss of limit load capability of an SSI as well as loss of continued safe flight and landing of the airplane.

Relationship Between Proposed AD and AD 2014-14-04

This NPRM does not propose to supersede AD 2014-14-04. Rather, we have determined that a stand-alone AD is more appropriate to address the changes in the existing maintenance or inspection program. This proposed AD would require revising the existing maintenance or inspection program, as applicable, to incorporate new or more restrictive airworthiness limitations. Accomplishment of the proposed actions would then terminate all requirements of AD 2014-14-04.

Related Service Information Under 1 CFR Part 51

The FAA reviewed Boeing 767-200/300/300F/400ER Airworthiness Limitations (AWLs), D622T001-9-01, dated June 2019. This service information describes airworthiness limitations for structural inspections and structural safe life limits among other limitations.

The FAA also reviewed Boeing 767-200/300/300F/400ER Damage Tolerance Rating (DTR) Check Form Document, D622T001-DTR, dated June 2019. This service information includes the DTR check forms and the procedure for their use.

This service information is reasonably available because the interested parties have access to it through their normal course of business or by the means identified in the ADDRESSES section.

FAA's Determination

The FAA is proposing this AD because the FAA evaluated all the relevant information and determined the unsafe condition described previously is likely to exist or develop in other products of the same type design.

Proposed AD Requirements

This proposed AD would require revising the existing maintenance or inspection program, as applicable, to incorporate new or more restrictive airworthiness limitations. This proposed AD also would require sending the inspection results to Boeing Commercial Airplanes.

This proposed AD would require revisions to certain operator maintenance documents to include new actions (e.g., inspections). Compliance with these actions is required by 14 CFR 91.403(c). For airplanes that have been previously modified, altered, or repaired in the areas addressed by this proposed AD, the operator may not be able to accomplish the actions described in the revisions. In this situation, to comply with 14 CFR 91.403(c), the operator must request approval for an alternative method of compliance according to paragraph (l) of this proposed AD.

Differences Between This Proposed AD and the Service Information

Instructions for wing tank sealant removal prior to certain inspections and instructions to ensure sealant location limits are met were added in the July 2018 revision of Boeing 767-200/300/300F/400ER Airworthiness Limitations (AWLs), D622T001-9-01. These actions are to be verified at the time of the threshold specified in the document, however many airplanes will not have wing tank entry inspections for up to 6 years after the release of Boeing 767-200/300/300F/400ER Airworthiness Limitations (AWLs), D622T001-9-01, dated June 2019. The FAA has determined that a grace period should be provided for those instructions to do certain actions; the grace period for these actions to be accomplished is at the next wing tank entry, but not to exceed 6 years from the effective date of the AD. The FAA has included this grace period in paragraph (h)(1) of this proposed AD.

Repairs made to any horizontal stabilizer pivot fitting lug (SSI 55-10-I13A), where the lug bore has been oversized, will require further evaluation to determine the applicable inspection interval to be incorporated, as specified in paragraph (h)(2) of this proposed AD.

Both Boeing 767-200/300/300F/400ER Airworthiness Limitations (AWLs), D622T001-9-01, dated June 2019; and Boeing 767-200/300/300F/400ER Damage Tolerance Rating (DTR) Check Form Document, D622T001-DTR, dated June 2019; state to report to Boeing within 10 days of the finding. For this proposed AD, the FAA will allow 10 days from airplane return to service as specified in paragraph (h)(3) of this proposed AD to submit the report.

These differences have been coordinated with Boeing.

Costs of Compliance

The FAA estimates that this proposed AD affects 615 airplanes of U.S. registry. The FAA estimates the following costs to comply with this proposed AD:

The FAA has determined that revising the existing maintenance or inspection program takes an average of 90 work-hours per operator, although the FAA recognizes that this number may vary from operator to operator. In the past, the FAA has estimated that this action takes 1 work-hour per airplane. Since operators incorporate maintenance or inspection program changes for their affected fleet(s), the FAA has determined that a per-operator estimate is more accurate than a per-airplane estimate. Therefore, the FAA estimates the total cost per operator to be $7,650 (90 work-hours × $85 per work-hour).

Estimated Costs of On-Condition Actions
Action | Labor cost | Parts cost | Cost per product | Cost on U.S. operators
Reporting | 1 work-hour × $85 per hour = $85 | $0 | $85 | $52,275

Paperwork Reduction Act

A federal agency may not conduct or sponsor, and a person is not required to respond to, nor shall a person be subject to penalty for failure to comply with a collection of information subject to the requirements of the Paperwork Reduction Act unless that collection of information displays a current valid OMB control number. The control number for the collection of information required by this proposed AD is 2120-0056. The paperwork cost associated with this proposed AD has been detailed in the Costs of Compliance section of this document and includes time for reviewing instructions, as well as completing and reviewing the collection of information. Therefore, all reporting associated with this proposed AD is mandatory. Comments concerning the accuracy of this burden and suggestions for reducing the burden should be directed to Information Collection Clearance Officer, Federal Aviation Administration, 10101 Hillwood Parkway, Forth Worth, TX 76177-1524.

Authority for This Rulemaking

Title 49 of the United States Code specifies the FAA's authority to issue rules on aviation safety. Subtitle I, section 106, describes the authority of the FAA Administrator. Subtitle VII: Aviation Programs, describes in more detail the scope of the Agency's authority.

The FAA is issuing this rulemaking under the authority described in Subtitle VII, Part A, Subpart III, Section 44701: “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

This proposed AD is issued in accordance with authority delegated by the Executive Director, Aircraft Certification Service, as authorized by FAA Order 8000.51C. In accordance with that order, issuance of ADs is normally a function of the Compliance and Airworthiness Division, but during this transition period, the Executive Director has delegated the authority to issue ADs applicable to transport category airplanes and associated appliances to the Director of the System Oversight Division.

Regulatory Findings

The FAA determined that this proposed AD would not have federalism implications under Executive Order 13132. This proposed AD would not have a substantial direct effect on the States, on the relationship between the national Government and the States, or on the distribution of power and responsibilities among the various levels of government.

For the reasons discussed above, I certify this proposed regulation:

(1) Is not a “significant regulatory action” under Executive Order 12866,

(2) Will not affect intrastate aviation in Alaska, and

(3) Will not have a significant economic impact, positive or negative, on a substantial number of small entities under the criteria of the Regulatory Flexibility Act.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

The Boeing Company: Docket No. FAA-2019-0862; Product Identifier 2019-NM-121-AD.

(a) Comments Due Date

The FAA must receive comments by December 23, 2019.

(b) Affected ADs

This AD affects AD 2014-14-04, Amendment 39-17899 (79 FR 44672, August 1, 2014) (“AD 2014-14-04”).

(c) Applicability

This AD applies to The Boeing Company Model 767-200, -300, -300F, and -400ER series airplanes, certificated in any category, line number 1 through 1183 inclusive.

(d) Subject

Air Transport Association (ATA) of America Code 27, Flight Controls; 52, Doors; 53, Fuselage; 54, Nacelles/pylons; 55, Stabilizers; 57, Wings.

(e) Unsafe Condition

This AD was prompted by a determination that new or more restrictive airworthiness limitations (AWLs) are necessary. The FAA is issuing this AD to address inadequate AWL and damage tolerance rating (DTR) values in the maintenance or inspection program that reduce the probability of detection for foreseeable fatigue cracking of structurally significant items (SSIs). This condition, if not addressed, could result in the loss of limit load capability of an SSI as well as loss of continued safe flight and landing of the airplane.

(f) Compliance

Comply with this AD within the compliance times specified, unless already done.

(g) Maintenance or Inspection Program Revision

Within 24 months after the effective date of this AD, revise the existing maintenance or inspection program, as applicable, to incorporate the information specified in Boeing 767-200/300/300F/400ER Airworthiness Limitations (AWLs), D622T001-9-01, dated June 2019; and Boeing 767-200/300/300F/400ER Damage Tolerance Rating (DTR) Check Form Document, D622T001-DTR, dated June 2019. Except as specified in paragraph (h) of this AD, the initial compliance time for doing the tasks is at the time specified in Boeing 767-200/300/300F/400ER Airworthiness Limitations (AWLs), D622T001-9-01, dated June 2019; and Boeing 767-200/300/300F/400ER Damage Tolerance Rating (DTR) Check Form Document, D622T001-DTR, dated June 2019; or within 24 months after the effective date of this AD; whichever occurs later.

(h) Exceptions

(1) Where Boeing 767-200/300/300F/400ER Airworthiness Limitations (AWLs), D622T001-9-01, dated June 2019, specifies compliance times (“thresholds”) for wing tank sealant removal and ensuring sealant location limits are met, these actions must be accomplished within the compliance times specified in Boeing 767-200/300/300F/400ER Airworthiness Limitations (AWLs), D622T001-9-01, dated June 2019; or at the next wing tank entry, but no later than 6 years after the effective date of this AD; whichever occurs later.

(2) For any horizontal stabilizer pivot fitting lug (SSI 55-10-I13A), on which a lug bore oversize repair has been accomplished, obtain revised inspection intervals in accordance with the procedures specified in paragraph (l) of this AD.

(3) Where Boeing 767-200/300/300F/400ER Airworthiness Limitations (AWLs), D622T001-9-01, dated June 2019; and Boeing 767-200/300/300F/400ER Damage Tolerance Rating (DTR) Check Form Document, D622T001-DTR, dated June 2019; specify to submit reports within 10 days, those reports may be submitted within 10 days after the airplane is returned to service.

(i) No Alternative Actions or Intervals

After the existing maintenance or inspection program has been revised as required by paragraph (g) of this AD, no alternative actions (e.g., inspections) or intervals may be used unless the actions or intervals are approved as an alternative method of compliance (AMOC) in accordance with the procedures specified in paragraph (l) of this AD.

(j) Terminating Action for AD 2014-14-04

Accomplishing the actions required by this AD terminates all requirements of AD 2014-14-04.

(k) Paperwork Reduction Act Burden Statement

A federal agency may not conduct or sponsor, and a person is not required to respond to, nor shall a person be subject to a penalty for failure to comply with a collection of information subject to the requirements of the Paperwork Reduction Act unless that collection of information displays a current valid OMB Control Number. The OMB Control Number for this information collection is 2120-0056. Public reporting for this collection of information is estimated to be approximately 1 hour per response, including the time for reviewing instructions, completing and reviewing the collection of information. All responses to this collection of information are mandatory as required by this AD; the nature and extent of confidentiality to be provided, if any. Send comments regarding this burden estimate or any other aspect of this collection of information, including suggestions for reducing this burden to Information Collection Clearance Officer, Federal Aviation Administration, 10101 Hillwood Parkway, Fort Worth, TX 76177-1524.

(l) Alternative Methods of Compliance (AMOCs)

(1) The Manager, Seattle ACO Branch, FAA, has the authority to approve AMOCs for this AD, if requested using the procedures found in 14 CFR 39.19. In accordance with 14 CFR 39.19, send your request to your principal inspector or local Flight Standards District Office, as appropriate. If sending information directly to the manager of the certification office, send it to the attention of the person identified in paragraph (m)(1) of this AD. Information may be emailed to: 9-ANM-Seattle-ACO-AMOC-Requests@faa.gov.

(2) Before using any approved AMOC, notify your appropriate principal inspector, or lacking a principal inspector, the manager of the local flight standards district office/certificate holding district office.

(3) An AMOC that provides an acceptable level of safety may be used for any repair, modification, or alteration required by this AD if it is approved by The Boeing Company Organization Designation Authorization (ODA) that has been authorized by the Manager, Seattle ACO Branch, FAA, to make those findings. To be approved, the repair method, modification deviation, or alteration deviation must meet the certification basis of the airplane, and the approval must specifically refer to this AD.

(4) AMOCs for repairs and alterations approved previously for AD 2003-18-10, Amendment 39-13301 (68 FR 53503, September 11, 2003) (“AD 2003-18-10”), and AD 2014-14-04 are approved as AMOCs for the corresponding actions specified in this AD. All other AMOCs for AD 2003-18-10 and AD 2014-14-04 are not approved as AMOCs for this AD.

(5) Repairs done before the effective date of this AD that meet the conditions specified in paragraphs (l)(5)(i), (ii), and (iii) of this AD are acceptable methods of compliance for the repaired area where the inspections of the baseline structure cannot be accomplished.

(i) The repair was approved under both 14 CFR 25.571 and 14 CFR 26.43(d) by The Boeing Company ODA that has been authorized by the Manager, Seattle ACO Branch, FAA, to make those findings.

(ii) The repair approval provides an inspection program (inspection threshold, method, and repetitive interval).

(iii) Operators revised their maintenance or inspection program, as applicable, to include the inspection program (inspection threshold, method, and repetitive interval) for the repair.

(m) Related Information

(1) For more information about this AD, contact Wayne Lockett, Aerospace Engineer, Airframe Section, FAA, Seattle ACO Branch, 2200 South 216th St., Des Moines, WA 98198; phone and fax: 206-231-3524; email: wayne.lockett@faa.gov.

(2) For service information identified in this AD, contact Boeing Commercial Airplanes, Attention: Contractual & Data Services (C&DS), 2600 Westminster Blvd., MC 110-SK57, Seal Beach, CA 90740-5600; telephone 562-797-1717; internet https://www.myboeingfleet.com. You may view this service information at the FAA, Transport Standards Branch, 2200 South 216th St., Des Moines, WA. For information on the availability of this material at the FAA, call 206-231-3195.

Issued in Des Moines, Washington, on October 29, 2019.
Dionne Palermo,
Acting Director, System Oversight Division, Aircraft Certification Service.

[FR Doc. 2019-24245 Filed 11-6-19; 8:45 am]

BILLING CODE 4910-13-P